DEPARTMENT OF TRANSPORTATION

Maritime Administration

[Docket Number: MARAD-2000-7123]

Requested Administrative Waiver of the Coastwise Trade Laws

AGENCY: Maritime Administration, Department of Transportation.

ACTION: Invitation for public comments on a requested administrative waiver of the Coastwise Trade Laws for the vessel Eye of the Needle.

SUMMARY: As authorized by Public Law 105-383, the Secretary of Transportation, as represented by the Maritime Administration (MARAD), is authorized to grant waivers of the U.S. build requirement of the coastwise laws under certain circumstances. A request for such a waiver has been received by MARAD. The vessel, and a description of the proposed service, is listed below. Interested parties may comment on the effect this action may have on U.S. vessel builders or businesses in the U.S. that use U.S.-flag vessels. If MARAD determines that in accordance with Pub. L. 105-383 and MARAD's regulations at 46 CFR part 388 (65 FR 6905; February 11, 2000) that the issuance of the waiver will have an unduly adverse effect on a U.S.-vessel builder or a business that uses U.S.-flag vessels, a waiver will not be granted.

DATES: Submit comments on or before April 28, 2000.

ADDRESSES: Comments should refer to docket number MARAD-2000-7123. Written comments may be submitted by hand or by mail to the Docket Clerk, U.S. DOT Dockets, Room PL-401, Department of Transportation, 400 7th St., SW, Washington, DC 20590-0001. You may also send comments electronically via the Internet at http://dmses.dot.gov/submit/. All comments will become part of this docket and will be available for inspection and copying at the above address between 10 a.m. and 5 p.m., E.T., Monday through Friday, except federal holidays. An electronic version of this document and all documents entered into this docket is available on the World Wide Web at http://dms.dot.gov.

FOR FURTHER INFORMATION CONTACT: Michael Hokana, U.S. Department of Transportation, Maritime Administration, MAR 832 Room 7201, 400 Seventh Street, SW, Washington, DC 20590. Telephone 202-366-0760.

SUPPLEMENTARY INFORMATION: Title V of Pub. L. 105-383 provides authority to the Secretary of Transportation to administratively waive the U.S.-build requirements of the Jones Act, and other statutes, for small commercial passenger vessels (less than 12 passengers). This authority has been delegated to the Maritime Administration per 49 CFR 1.66, Delegations to the Maritime Administrator, as amended. By this notice, MARAD is publishing information on a vessel for which a request for a U.S.-build waiver has been received, and for which MARAD requests comments from interested parties. Comments should refer to the docket number of this notice and the vessel name in order for MARAD to properly consider the comments. Comments should also state the commentor's interest in the waiver application, and address the waiver criteria given in § 388.4 of MARAD'S regulations at 46 CFR part 388.

Vessel Proposed for Waiver of the U.S.-Build Requirement

(1) Name of vessel and owner for which waiver is requested. Name: Eye of the Needle, owner: Eye of the Needle, LLC.

(2) Size, capacity and tonnage of vessel: L.O.A.:56′, L.W.L.44′6″, Beam 15′6″, Draft 6′7″, Capacity 12, Tonnage: Gross 35, Net 33, Ballast 19,650 lbs. Internal.

(3) Intended use for vessel, including geographic region of intended operation and trade. According to the applicant: “Intended use: Sailing charters to/from Sackets Harbor NY to/from Lake Ontario and the St. Lawrence Seaway. Charters are designed as day charters but may have an occasional overnight application for special occasions. Passengers will not exceed 12 persons.”

(4) Date and place of construction and (if applicable) rebuilding. Date of construction: 1987. Place of original construction: Built in Taiwan by Ta Chaio Bros. Yacht Bldg. Co., LTD.

(5) A statement on the impact this waiver will have on other commercial passenger vessel operators. According to the applicant: “This waiver will not have an impact on other commercial passenger vessel operators. All present operators are power boats specializing in fishing charters. There are no other commercial passenger vessels operating out of Sackets Harbor, NY for sailing charters.”

(6) A statement on the impact this waiver will have on U.S. shipyards. According to the applicant: “The impact this waiver will have on U.S. shipyards is none. We have no intention of purchasing a U.S. built vessel for sailing charters in the event this waiver is not granted.”

By Order of the Maritime Administrator.
Dated: March 23, 2000.
Joel C. Richard,
Secretary, Maritime Administration.

[FR Doc. 00-7757 Filed 3-28-00; 8:45 am]

BILLING CODE 4910-81-P